DEPARTMENT OF ENERGY

Energy Information Administration

Agency Information Collection Activities: Proposed Collection; Comment Request

AGENCY: Energy Information Administration (EIA), Department of Energy (DOE).

ACTION: Agency information collection activities: Proposed collection; comment request.

SUMMARY: The EIA is soliciting comments on the proposed revisions and three year extension to the Petroleum Supply Forms. In particular, changes are proposed for forms EIA-810, “Monthly Refinery Report;” EIA-812, “Monthly Product Pipeline Report;” EIA-813, “Monthly Crude Oil Report;” EIA-815, “Monthly Bulk Terminal and Blender Report;” Form EIA-816, “Monthly Natural Gas Liquids Report;” and Form EIA-819, “Monthly Oxygenate Report.”

DATES: Comments must be filed by January 4, 2010. If you anticipate difficulty in submitting comments within that period, contact the person listed below as soon as possible.

ADDRESSES: Send comments to Sylvia Norris and Jacob Bournazian. To ensure receipt of the comments by the due date, submission by FAX (202-586-1076) or e-mail (sylvia.norris@eia.doe.gov and jacob.bournazian@eia.doe.gov) is recommended. The mailing address is Petroleum Division, EI-42, Forrestal Building, U.S. Department of Energy, Washington, DC 20585. Alternatively, Sylvia Norris may be contacted by telephone at 202-586-6106; Jacob Bournazian may be contacted by telephone at 202-586-5562.

FOR FURTHER INFORMATION CONTACT: Requests for additional information or copies of any forms and instructions should be directed to Sylvia Norris at the address listed above. The proposed forms and changes in definitions and instructions are also available on the Internet at: http://www.eia.doe.gov/oil_gas/petroleum/survey_forms/pet_survey_forms.html

SUPPLEMENTARY INFORMATION:

I. Background

II. Current Actions

III. Request for Comments

I. Background

The Federal Energy Administration Act of 1974, specifically 15 U.S.C. 790a, and the DOE Organization Act, specifically 42 U.S.C. 7135, require EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of petroleum supply and delivery systems.

EIA, as part of its effort to comply with the Paperwork Reduction Act of 1995 (Pub. L. 104-13, 44 U.S.C. Chapter 35), provides the general public and other Federal agencies with opportunities to comment on collections of energy information conducted by or in conjunction with EIA. Any comments received help EIA prepare data requests that maximize the utility of the information collected, and assess the impact of collection requirements on the public. Also, EIA will later seek approval for this collection by the Office of Management and Budget (OMB) under Section 3507(a) of the Paperwork Reduction Act of 1995.

The monthly petroleum supply surveys are designed to provide statistically reliable and comprehensive information not available from other sources to EIA, other Federal agencies, and the private sector for use in forecasting, policy making, planning, and analysis activities. The information appears in the publications listed below and is also available electronically through the Internet at: http://www.eia.doe.gov/oil_gas/petroleum/info_glance/petroleum.html

Publications: Internet-only publications are the Petroleum Supply Monthly, Petroleum Supply Annual, and Short-Term Energy Outlook. Hardcopy and Internet publications are the Monthly Energy Review (DOE/EIA-0035), the Annual Energy Review (DOE/EIA-0384), and the Annual Energy Outlook (DOE/EIA-0383).

II. Current Actions

In order to improve market transparency and more effectively analyze petroleum markets, EIA proposes to collect working and shell storage capacity for crude oil and petroleum products semi-annually in March and September. Inventories are an important source of supply in meeting regional and local demand. Industry treats inventories strategically as an economic means of helping to meet their market requirements and opportunities. Furthermore, as regulatory requirements change, there is a need to monitor whether or not capacity to store both crude oil and products is being either temporarily or permanently idled. Data regarding capacity to hold inventories is therefore of great interest. This information is also needed to inform responses to energy emergencies.

Storage capacity reported on EIA surveys will include aboveground and underground storage for only those facilities and tanks for which inventory levels are currently reported on the surveys. Therefore, bonded storage capacity and storage capacity in secondary and tertiary sectors will be excluded because stocks held in these storage sectors are out of scope for existing petroleum supply surveys. The information requested will be added to the existing survey forms. The first collection period will be for March 2010, due April 20, 2010.

The “Monthly Refinery Report,” form, EIA-810—Collect working and shell storage capacity (in operation, idle, and total) by refinery site for the following products: Crude oil, fuel ethanol, natural gas plant liquids and liquefied refinery gases (including mixes and pentanes plus), storage dedicated to propane and propylene, motor gasoline (including gasoline blending components), distillate fuel oil, kerosene and kerosene-type jet fuel, residual fuel oil, asphalt and road oil, other products, and total product storage capacity.

The “Monthly Product Pipeline Report,” form EIA-812—Collect working and shell storage capacity (in operation, idle, and total) by Petroleum Administration for Defense Districts (PADD) for the following products: Fuel ethanol, natural gas plant liquids and liquefied refinery gases (including mixes and pentanes plus), storage dedicated to propane and propylene, motor gasoline (including gasoline blending components), distillate fuel oil, kerosene and kerosene-type jet fuel, residual fuel oil, asphalt and road oil, other products, and total product storage capacity. In addition, information is being requested on whether pipeline and storage tank access is used exclusively by the reporting company or whether tanks may be used by other companies.

The “Monthly Crude Oil Report,” form EIA-813—Collect crude oil working and shell storage capacity (in operation, idle, and total) by PADD. Working and shell storage capacity is also being requested for the Cushing, Oklahoma area. Storage capacity will only be collected for tank farms facilities. Storage in pipelines and on leases will be excluded. Information is also being requested on whether tank storage is used exclusively by the reporting company or whether tanks may be used by other companies.

The “Monthly Terminal Blenders Report,” EIA-815—Collect working and shell storage capacity (in operation, idle, and total) by terminal site for the following products: Fuel ethanol, natural gas plant liquids and liquefied refinery gases (including mixes and pentanes plus), storage dedicated to propane and propylene, motor gasoline (including blending components), kerosene, kerosene-type jet fuel, distillate fuel oil, residual fuel oil, asphalt and road oil, other products, and total product storage capacity. Information is also being requested on whether tank storage is used exclusively by the reporting company or whether tanks may be used by other companies and whether any tanks at the terminal are used for transshipment of products by pipeline or other modes of transportation.

The “Monthly Natural Gas Liquids Report,” form EIA-816—Collect working and shell storage capacity (in operation, idle, and total) by gas processing or fractionation plant site for natural gas plant liquids (including mixes of liquefied petroleum gases and pentanes plus). In addition, storage dedicated to propane is being requested.

The “Monthly Oxygenate Report,” form EIA-819—Collect working and shell storage capacity (in operation, idle, total) by producer site for fuel ethanol.

III. Request for Comments

Prospective respondents and other interested parties should comment on the actions discussed in item II. The following guidelines are provided to assist in the preparation of comments. Please indicate to which form(s) your comments apply.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average:

Estimated hours per response are: EIA-800, “Weekly Refinery and Fractionator Report,”—1.58 hours; EIA-801, “Weekly Bulk Terminal Report,”—0.95 hours; EIA-802, “Weekly Product Pipeline Report,”—0.95 hours; EIA-803, “Weekly Crude Oil Stocks Report,”—0.50 hours; EIA-804, “Weekly Imports Report,”—1.75 hours; EIA-805, “Weekly Terminal Blenders Report,”—1.50 hours; EIA-809, “Weekly Oxygenate Report,”—1.00 hours; EIA-810, “Monthly Refinery Report,”—5.30 hours; EIA-812, “Monthly Product Pipeline Report,”—3.30 hours; EIA-813, “Monthly Crude Oil Report,”—2.00 hours; EIA-814, “Monthly Imports Report,”—2.55 hours; EIA-815, “Monthly Terminal Blenders Report,”—4.30 hours; EIA-816, “Monthly Natural Gas Liquids Report,”—1.30 hours; EIA-817, “Monthly Tanker and Barge Movement Report,”—2.25 hours; EIA-819, “Monthly Oxygenate Report,”—2.00 hours; EIA-820, “Annual Refinery Report”—2.40 hours. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. March and September reporting periods are being requested to capture indicators of storage capacity in advance of both the summer driving season and the winter heating season. Are the time periods requested adequate to capture key seasonal information?

E. For what purpose(s) would the information be used? Be specific.

F. Are there alternate sources for the information and are they useful? If so, what are their weaknesses and/or strengths?

Comments submitted in response to this notice will be summarized and/or included in the request for OMB approval of the forms. They also will become a matter of public record.

Statutory Authority: Section 13(b) of the Federal Energy Administration Act of 1974, Public Law 93-275, codified at 15 U.S.C. 772(b).

Issued in Washington, DC, October 26, 2009.
Stephanie Brown,
Director, Statistics and Methods Group, Energy Information Administration.

[FR Doc. E9-26319 Filed 10-30-09; 8:45 am]

BILLING CODE 6450-01-P